NUCLEAR REGULATORY COMMISSION

[Docket Nos. 52-014-COL, 52-015-COL; ASLBP No. 08-864-02-COL-BD01]

Tennessee Valley Authority; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Tennessee Valley Authority

(Bellefonte Nuclear Power Plant Units 3 and 4)

This proceeding concerns a Petition to Intervene and Request for Hearing submitted by the Bellefonte Efficiency and Sustainability Team, the Blue Ridge Environmental Defense League, and the Southern Alliance for Clean Energy, which was submitted in response to a February 8, 2008 Notice of Hearing and Opportunity To Petition for Leave To Intervene on a Combined License for Bellefonte Units 3 and 4 (73 FR 7,611), and an April 11, 2008 Notice of Extension of Time for Petition for Leave To Intervene on a Combined License Application for Bellefonte Units 3 and 4 (73 FR 19,904). The Petition to Intervene and Request for Hearing challenges the application filed by Tennessee Valley Authority pursuant to Subpart C of 10 CFR Part 52 for a combined license for Bellefonte Units 3 and 4, which would be located at the Bellefonte Nuclear Power Plant in Jackson County, Alabama.

The Board is comprised of the following administrative judges:

G. Paul Bollwerk, III, Chair, Atomic Safety and Licensing Board Panel, U.S. Nuclear Regulatory Commission, Washington, DC 20555-0001;

Dr. Anthony J. Baratta, Atomic Safety and Licensing Board Panel, U.S. Nuclear Regulatory Commission, Washington, DC 20555-0001;

Dr. William W. Sager, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 18th day of June 2008.
E. Roy Hawkens,
Chief Administrative Judge, Atomic Safety and Licensing Board Panel.

[FR Doc. E8-14204 Filed 6-23-08; 8:45 am]

BILLING CODE 7590-01-P